DEPARTMENT OF STATE

[Public Notice: 11626]

Call for Expert Reviewers To Submit Comments on the Intergovernmental Panel on Climate Change (IPCC) Sixth Assessment Synthesis Report

ACTION: Notice of request for expert review.

SUMMARY: The Department of State, in cooperation with the United States Global Change Research Program (USGCRP), requests expert review of the first draft of Intergovernmental Panel on Climate Change (IPCC) Sixth Assessment Report (AR6) Synthesis Report (SYR).

DATES: Starting January 10, 2022; public comments are due by March 1, 2022.

ADDRESSES: Experts wishing to contribute to the U.S. government review are encouraged to register via the USGCRP Review and Comment System (https://review.globalchange.gov/).

FOR FURTHER INFORMATION CONTACT: Farhan Akhtar, Foreign Affairs Officer, Office of Global Change, (202) 647-3489, ipcc_fp@state.gov.

SUPPLEMENTARY INFORMATION: The United Nations Environment Program (UNEP) and the World Meteorological Organization (WMO) established the IPCC in 1988. As reflected in its governing documents, the role of the IPCC is to assess on a comprehensive, objective, open, and transparent basis the scientific, technical, and socio-economic information relevant to understanding the scientific basis of risk of human-induced climate change, its potential impacts, and options for adaptation and mitigation. IPCC reports should be neutral with respect to policy, although they may need to deal objectively with scientific, technical, and socio-economic factors relevant to the application of particular policies. The principles and procedures for the IPCC and its preparation of reports can be found at: https://www.ipcc.ch/site/assets/uploads/2018/09/ipcc-principles.pdf and https://www.ipcc.ch/site/assets/uploads/2018/09/ipcc-principles-appendix-a-final.pdf. In accordance with these procedures, IPCC documents undergo peer review by experts and governments. The purpose of these reviews is to ensure the reports present a comprehensive, objective, and balanced view of the subject matter they cover.

According to IPCC procedures, the SYR should “synthesize and integrate materials contained within the Assessment Reports and Special Reports” and “should be written in a non-technical style suitable for policymakers and address a broad range of policy-relevant but policy-neutral questions approved by the Panel”. AR6 SYR content is based on the three Working Group contributions to the AR6 and the three Special Reports undertaken during the cycle:

• The Physical Science Basis (WGI, launched in August 2021)

• Impacts, Adaptation and Vulnerability (WGII, to be released in February 2022)

• Mitigation of Climate Change (WGIII, to be released in March 2022)

• Global Warming of 1.5 °C (SR1.5, 2018)

• Climate Change and Land (SRCCL, 2019)

• The Ocean and Cryosphere in a Changing Climate (SROCC, 2019)

As part of the U.S. government review—starting January 10, 2022—experts wishing to contribute to the U.S. government review are encouraged to register via the USGCRP Review and Comment System (https://review.globalchange.gov/). Instructions and the synthesis report draft will be available for download via the system. In accordance with IPCC policy, drafts of the report are provided for review purposes only and are not to be cited or distributed. All relevant technical comments received will be forwarded to the IPCC authors for their consideration. To be considered for inclusion in the U.S. government submission, comments must be received by March 1, 2022.

Experts may choose to provide comments directly through the IPCC's expert review process, which occurs in parallel with the U.S. government review: https://apps.ipcc.ch/comments/ar6syr/fod/register.php. To avoid duplication, experts are requested to submit comments via either the USGCRP or IPCC review websites, not both.

Farhan Akhtar,
Office of Global Change, Department of State.

[FR Doc. 2022-00811 Filed 1-24-22; 8:45 am]

BILLING CODE 4710-09-P